DEPARTMENT OF COMMERCE

National Oceanic and Atmospheric Administration

[RTID 0648-XF032]

Endangered Species; File No. 27918

AGENCY: National Marine Fisheries Service (NMFS), National Oceanic and Atmospheric Administration (NOAA), Commerce.

ACTION: Notice; issuance of permit.

SUMMARY: Notice is hereby given that Kristen Hart, Ph.D., U.S. Geological Survey, Wetlands and Aquatic Research Center, 3321 College Avenue, Davie, FL 33314, has been issued a permit to take green (Chelonia mydas), Kemp's ridley (Lepidochelys kempii), loggerhead (Caretta caretta), and hawksbill (Eretmochelys imbricata) sea turtles for purposes of scientific research.

ADDRESSES: The permit and related documents are available for review upon written request via email to NMFS.Pr1Comments@noaa.gov.

FOR FURTHER INFORMATION CONTACT: Amy Hapeman or Erin Markin, Ph.D., (301) 427-8401.

SUPPLEMENTARY INFORMATION: On April 30, 2025, notice was published in the Federal Register (90 FR 17911) that a request for a scientific research permit to take sea turtles had been submitted by the above-named individual. The requested permit has been issued under the authority of the Endangered Species Act of 1973, as amended (ESA; 16 U.S.C. 1531 et seq.) and the regulations governing the taking, importing, and exporting of endangered and threatened species (50 CFR parts 222-226).

The permit authorizes sea turtle research at study sites across the northern Gulf of America, Atlantic Ocean, and U.S. Virgin Islands. Researchers may capture sea turtles by hand, dip net, strike net, tangle net, cast net, or trawl and perform the following procedures prior to release: measurements, biological sampling, temporary marking, photographs, instrument attachments, tracking, and weighing. In addition, in lieu of directed captures, researchers may perform these methods on animals legally caught during relocation trawling efforts. The permit takes effect on October 1, 2025, and is valid for 10 years.

Issuance of this permit, as required by the ESA, was based on a finding that such permit (1) was applied for in good faith, (2) will not operate to the disadvantage of such endangered or threatened species, and (3) is consistent with the purposes and policies set forth in section 2 of the ESA.

Dated: July 17, 2025.
Shannon Bettridge,
Chief, Marine Mammal and Sea Turtle Conservation Division, Office of Protected Resources, National Marine Fisheries Service.

[FR Doc. 2025-13686 Filed 7-18-25; 8:45 am]

BILLING CODE 3510-22-P